DEPARTMENT OF THE INTERIOR

National Park Service

[NPS-WASO-NAGPRA-NPS0027959; PPWOCRADN0-PCU00RP14.R50000]

Notice of Inventory Completion: U.S. Department of Agriculture, Forest Service, Cibola National Forest, Albuquerque, NM

AGENCY: National Park Service, Interior.

ACTION: Notice.

SUMMARY: The U.S. Department of Agriculture, Forest Service, Cibola National Forest has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Cibola National Forest. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Cibola National Forest at the address in this notice by July 5, 2019.

ADDRESSES: Forest Supervisor, Steve Hattenbach, Cibola National Forest and Grasslands, 2113 Osuna Road NE, Albuquerque, NM 87113, telephone (505) 346-3804, email steven.hattenbach@usda.gov.

SUPPLEMENTARY INFORMATION: Notice is here given in accordance with the Native American Graves Protection and Repatriation Act (NAGPRA), 25 U.S.C. 3003, of the completion of an inventory of human remains and associated funerary objects under the control of the U.S. Department of Agriculture, Forest Service, Cibola National Forest, Albuquerque, NM. The human remains and associated funerary objects were removed from site AR-03-03-02-536 (LA79663), Mt. Taylor Ranger District, Cibola National Forest and National Grasslands, Cibola County, NM.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Cibola National Forest professional staff in consultation with representatives of the Hopi Tribe of Arizona; Navajo Nation, Arizona, New Mexico & Utah; Pueblo of Acoma, New Mexico; Pueblo of Laguna, New Mexico; and the Zuni Tribe of the Zuni Reservation, New Mexico (hereafter referred to as “The Tribes”).

History and Description of the Remains

Between 1980 and 1991, human remains representing, at minimum, two individuals were removed from site AR-03-03-02-536 (LA79663) in Cibola County, NM. Based on reports, site forms, and other notes found in the Forest's heritage resource files, the site experienced several episodes of rodent damage and vandalism (pot hunting) over a period of 11 years (1980-1991). The initial damage to the site was noted in July 1980. At that time, 18 human bones or fragments of bones were observed in two midden features, and were collected by Forest Service archeological staff. The site form from that time indicates that the bones were likely brought to the surface as a result of rodent activity. The skeletal remains consist of four long bones, six ribs or rib fragments, seven vertebrae, and one sacrum, and represent the partial skeletons of two Native American individuals of unknown sex and age. No known individuals were identified.

Damage to site AR-03-03-02-536 (LA79663) from pot hunting was noted in 199l, and the site was subsequently monitored more frequently, until an individual was discovered digging within a room block at the site, resulting in an investigation in September 1991. During the course of the investigation, 12 artifacts collected by the individual were seized by a Forest Service Law Enforcement officer. In June 2008, evidence of new disturbance (pot hunting) was observed at the site. As part of the damage assessment, the Forest Service archeologist screened soil from two holes, and recovered additional items (ceramic sherds, flaked stone, small pieces of charcoal and adobe, and seven small pieces of faunal bone). The 63 associated funerary objects are 19 ceramic sherds, 13 pieces of flaked stone, 10 pieces of charcoal, 14 pieces of adobe, and seven small fragments of faunal remains.

Site AR-03-03-02-536 (LA79663) is a small masonry pueblo that is estimated to date between A.D. 900 and 1100. It is located in Limekiln Canyon, in the eastern portion of the Zuni Mountains, on lands managed by the Mt. Taylor Ranger District of the Cibola National Forest and National Grasslands. The 1996 report Cultural Affiliations—Prehistoric Cultural Affiliations of Southwestern Indian Tribes prepared by the USDA Forest Service (Southwestern Region), the Bureau of Land Management (Arizona and New Mexico State Offices), and the Arizona State Museum found that the Eastern Anasazi in the Cibola Area (A.D. 700-1300) are culturally affiliated with the Hopi Tribe of Arizona, Pueblo of Acoma, New Mexico, and the Zuni Tribe of the Zuni Reservation, New Mexico. During consultation, the Pueblo of Laguna, New Mexico Historic Preservation Office confirmed it, too, considers the eastern half of the Zuni Mountains part of its aboriginal land base. The Navajo Nation, Arizona, New Mexico & Utah also claims cultural affiliation with the Nihi naa zázi people of the Southwest (Anasazi people from Archaic-Pueblo IV periods).

Determinations Made by the U.S. Department of Agriculture, Forest Service, Cibola National Forest

Officials of the U.S. Department of Agriculture, Forest Service, Cibola National Forest have determined that:

• Pursuant to 25 U.S.C. 3001(9), the human remains described in this notice represent the physical remains of two individuals of Native American ancestry.

• Pursuant to 25 U.S.C. 3001(3)(A), the 63 objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice that wish to request transfer of control of these human remains and associated funerary objects should submit a written request with information in support of the request to Forest Supervisor, Steve Hattenbach, Cibola National Forest and Grasslands, 2113 Osuna Road NE, Albuquerque, NM 87113, telephone (505) 346-3804, email steven.hattenbach@usda.gov, by July 5, 2019. After that date, if no additional requestors have come forward, transfer of control of the human remains and associated funerary objects to The Tribes may proceed.

The Cibola National Forest is responsible for notifying The Tribes that this notice has been published.

Dated: May 14, 2019.
Melanie O'Brien,
Manager, National NAGPRA Program.

[FR Doc. 2019-11540 Filed 6-3-19; 8:45 am]

BILLING CODE 4312-52-P